DEPARTMENT OF ENERGY

Federal Energy Regulatory Commission

18 CFR Part 40

[Docket Nos. RM06-16-000 and RM06-22-000]

Mandatory Reliability Standards for the Bulk Power System

Issued September 18, 2006.

AGENCY: Federal Energy Regulatory Commission, DOE.

ACTION: Notice announcing rulemaking process.

SUMMARY: The Federal Energy Regulatory Commission (Commission) is announcing a rulemaking process for mandatory Reliability Standards for the Bulk-Power System and specifically, its inclusion of certain Reliability Standards proposed by the North American Electric Reliability Council (NERC) in the Commission's upcoming Notice of Proposed Rulemaking which will be issued in Docket No. RM06-16-000. The Commission will also open a new proceeding in Docket No. RM06-22-000, which will process additional Reliability Standards proposed by NERC.

FOR FURTHER INFORMATION CONTACT: Jonathan First, Office of the General Counsel, Federal Energy Regulatory Commission, 888 First Street, NE., Washington, DC 20426; (202) 502-8529.

SUPPLEMENTARY INFORMATION: On August 28, 2006, the North American Electric Reliability Council, on behalf of its affiliate, the North American Electric Reliability Corporation (NERC Corporation, and collectively NERC), filed 27 proposed Reliability Standards for Commission approval. The Commission certified NERC Corporation as the Electric Reliability Organization (ERO) pursuant to section 215 of the Federal Power Act (FPA) in an order issued July 20, 2006 in Docket No. RR06-1-000.

NERC requested that these 27 proposed Reliability Standards be included in the upcoming Notice of Proposed Rulemaking (NOPR) in Docket No. RM06-16-000. Because of their close relationship with Reliability Standards already filed in that docket, the Commission will address 19 of the 27 proposed Reliability Standards in the upcoming NOPR in Docket No. RM06-16-000. The 19 Reliability Standards to be addressed in this docket are:

INT-001-1—Interchange Information

INT-003-1—Interchange Transaction Implementation

INT-004-1—Dynamic Interchange Transaction Modifications

INT-005-1—Interchange Authority Distributes Arranged Interchange

INT-006-1—Response to Interchange Authority

INT-007-1—Interchange Confirmation

INT-008-1—Interchange Authority Distributes Status

INT-009-1—Implementation of Interchange

INT-010-1—Interchange Coordination Exemptions

EOP-005-1—System Restoration Plans

MOD-013-1—Dynamics Data Requirements and Reporting Procedures

MOD-016-1—Actual and Forecast Demands, Net Energy for Load, Controllable DSM

PRC-002-1—Define Regional Disturbance Monitoring and Reporting Requirements

PRC-018-1—Disturbance Monitoring Equipment Installation and Data Reporting

VAR-001-1—Voltage and Reactive Control

VAR-002-1—Generator Operation for Maintaining Network Voltage Schedules

TOP-002-1—Normal Operations Planning

IRO-006-3—Reliability Coordination—Transmission Loading Relief

BAL-006-1—Inadvertent Interchange

The Commission is also opening a new Docket No. RM06-22-000 for processing the remaining 8 proposed Reliability Standards. No preliminary comments are being sought at this time. A proposed rulemaking will be issued later, and we will allow comments then. The 8 Reliability Standards included in this docket are:

CIP-002-1—Cyber Security—Critical Cyber Asset Identification

CIP-003-1—Cyber Security—Security Management Controls

CIP-004-1—Cyber Security—Personnel and Training

CIP-005-1—Cyber Security—Electronic Security Perimeter(s)

CIP-006-1—Cyber Security—Physical Security of Critical Cyber Assets

CIP-007-1—Cyber Security—Systems Security Management

CIP-008-1—Cyber Security—Incident Reporting and Response Planning

CIP-009-1—Cyber Security—Recovery Plans for Critical Cyber Assets

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-15797 Filed 9-29-06; 8:45 am]

BILLING CODE 6717-01-P